DEPARTMENT OF DEFENSE

Department of the Army

Performance Review Boards Membership

AGENCY: Department of the Army, DoD.

ACTION: Notice.

SUMMARY: Notice is given of the names of members of a Performance Review Board for the Department of the Army.

EFFECTIVE DATE: August 14, 2001.

FOR FURTHER INFORMATION CONTACT: David Stokes, U.S. Army Senior Executive Service Office, Assistant Secretary of the Army, Manpower & Reserve Affairs, 111 Army, Washington, DC 20310-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the Office of the Surgeon General are:

1. MG Patrick D. Sculley, Deputy Surgeon General, Office of The Surgeon General

2. Dr. Zita M. Simutis, Technical Director, Army Research Institute

3. Mr. James Sizelove, Assistant Deputy Undersecretary of the Army (Operations Research), Office of the DUSA(OR)

John A. Hall,
Alternate Army Federal Register Liaison Officer.

[FR Doc. 01-20756 Filed 8-16-01; 8:45 am]

BILLING CODE 3910-08-M